DEPARTMENT OF ENERGY

Federal Energy Regulatory Commission

[Docket No. RP00-340-001]

Gulf South Pipeline Company, LP; Notice of Pro Forma Tariff

February 6, 2001.

Take notice that on February 1, 2001, Gulf South Pipeline Company, LP (Gulf South) tendered for filing pro forma tariff sheets listed on the attachment to the filing, in compliance with Order No. 637 issued in Docket Nos. RM98-10 and RM98-12 on February 9, 2000.

On June 15, 2000 Gulf South filed the pro forma tariff sheets necessary to implement Order No. 637 on its system. Since June Gulf South has participated in two technical conferences and has convened three customer meetings to discuss its implementation of Order No. 637. Through the course of these discussions, certain aspects of Gulf South's original filing have been modified or eliminated and new provisions have been added. While there is agreement on certain aspects of these proposed tariff sheets, there is not universal agreement on every aspect of this filing. The pro forma tariff sheets Gulf South has submitted replace the previously filed pro forma tariff sheets and represent a just and reasonable approach to implementing Order No. 637 on this pipeline.

Gulf South states that copies of this filing have been served upon Koch's customers, state commissions and other interested parties.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3448 Filed 2-9-01; 8:45 am]

BILLING CODE 6717-01-M